ENVIRONMENTAL PROTECTION AGENCY

[EPA-HQ-OAR-2006-0947; FRL 9516-8]

Agency Information Collection Activities; Submission to OMB for Review and Approval; Comment Request; CAIR To Reduce Interstate Transport of Fine Particle Matter and Ozone (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Comments may be submitted on or before June 21, 2012.

ADDRESSES: Submit your comments, referencing Docket ID No. EPA-HQ-OAR-2006-0947, to (1) EPA online using www.regulations.gov (our preferred method), by email to a-and-r-Docket@epa.gov, or by mail to: EPA Docket Center, Environmental Protection Agency, Air and Radition Docket (Mail Code 28221T), 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Karen VanSickle, Clean Air Markets Division, (6204J), Environmental Protection Agency, 1200 Pennsylvania Ave. NW., Washington, DC 20460; telephone number: 202-343-9220; fax number: 202-343-2361; email address: vansickle.karen@epa.gov.

SUPPLEMENTARY INFORMATION: EPA has submitted the following ICR to OMB for review and approval according to the procedures prescribed in 5 CFR 1320.12. On 01/12/2012 (77 FR 1930), EPA sought comments on this ICR pursuant to 5 CFR 1320.8(d). EPA received one non-substantial comment during the comment period. Any additional comments on this ICR should be submitted to EPA and OMB within 30 days of this notice.

EPA has established a public docket for this ICR under EPA Docket ID No. EPA-HQ-OAR-2006-0947, which is available for online viewing at http://www.regulations.gov, or in person viewing at the Air and Radiation Docket, in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Air and Radiation Docket is (202) 566-1742. Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: CAIR to Reduce Interstate Transport of Fine Particle Matter and Ozone (Renewal).

ICR numbers: EPA ICR No. 2152.05, OMB Control No. 2060-0570.

ICR Status: This ICR is currently scheduled to expire on May 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In 2005, the United States Environmental Protection Agency (EPA) promulgated the Clean Air Interstate Rule (CAIR) to Reduce Interstate Transport of Fine Particle Matter and Ozone. CAIR combined its reporting requirements with existing requirements from the Emission Reporting Requirements for Ozone State Implementation Plan (SIP) Revisions Relating to Statewide Budgets for NOX Emissions to Reduce Regional Transport of Ozone (NOX SIP Call) and the Acid Rain Program (ARP) under Title IV of the CAA Amendments of 1990. These other requirements have approved ICRs in place. The ARP is covered under OMB Control Number 2060-0258. The NOX SIP Call, OMB Control Number 2060-0445, was revised in 2008 and sources previously subject to the NOX SIP Call requirements are now covered under CAIR. In 2009 an administrative change was made to include Delaware and New Jersey in the Clean Air Interstate Rule, OMB Control Number 2060-0584 in this ICR. This ICR is being submitted to account for the incremental burden associated with CAIR. As such, the supporting statement references the burden analysis included in the ICRs for the NOX SIP Call and ARP and estimates the change in burden resulting from CAIR beyond the scope of these ICRs. This ICR details the ongoing burdens associated with CAIR. These changes can be logically divided into two categories: (1) Annualized startup/capital and operational costs associated with CAIR affected units that are not also affected by the ARP program and (2) incremental operational costs for ARP affected units that are also subject to the CAIR program. The previous 2009-2011 ICR period contained a number of one-time costs and burdens associated with facilities/units either transitioning into the CAIR program from the NOX SIP Call program or facilities/units previously affected by ARP that were required to make changes as part of CAIR. These one-time costs and burdens were fully realized in the 2009-2011 period.

Burden Statement: The annual public reporting and recordkeeping burden for this collection of information is estimated to average 22 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Sources subject to the CAIR program.

Estimated Number of Respondents: 1,077.

Frequency of response: Quarterly.

Estimated Total Annual Hour Burden: 265,292 hours.

Estimated Total Annual Costs: $40,819,163, which included $22,539,614 in capital and O&M costs.

Changes in the Estimates: There is a decrease of 141,747 hours in the total estimated burden currently identified in the OMB Inventory of Approved ICR Burdens. This change from the previous ICR is due to three major differences. (1) The previous ICR included a number of one-time transition burdens associated with the incorporation of NOX SIP Call sources and incremental changes for ARP sources. Those one time burdens were fully accounted for in the previous ICR and are not included in the 2012-2014 period. (2) The previous ICR also included a State and local reporting burden associated with annual and triennial emissions inventory reporting. This reporting requirement was removed with changes to 40 CFR 51.125 published in 76 FR 48353 on August 8, 2011. (3) The overall number of facilities slightly declined despite the previous administrative change to include Delaware and New Jersey.

John Moses,
Director, Collection Strategies Division.

[FR Doc. 2012-12322 Filed 5-21-12; 8:45 am]

BILLING CODE 6560-50-P